DEPARTMENT OF THE INTERIOR

Fish and Wildlife Service

[FWS-R3-R-2010-N170; 30136-1265-0000-S3]

Crane Meadows National Wildlife Refuge, Morrison County, MN

AGENCY: U.S. Fish and Wildlife Service, Department of the Interior.

ACTION: Notice of availability: Final Comprehensive Conservation Plan and Finding of No Significant Impact for Environmental Assessment.

SUMMARY: We, the U.S. Fish and Wildlife Service (Service), announce the availability of the Final Comprehensive Conservation Plan (CCP) and Finding of No Significant Impact (FONSI) for the Environmental Assessment (EA) for Crane Meadows National Wildlife Refuge (NWR). Goals and objectives in the CCP describe how the agency intends to manage the refuge over the next 15 years.

ADDRESSES: Copies of the Final CCP and FONSI/EA may be viewed at the Crane Meadows National Wildlife Refuge Office or at public libraries near the refuge. You may also request a copy by any of the following methods.

1. Agency Web site: View or download a copy of the document at http://www.fws.gov/midwest/planning/CraneMeadows/.

2. E-mail: r3planning@fws.gov. Include “Crane Meadows Final CCP/EA” in the subject line of the message.

3. Mail: Crane Meadows National Wildlife Refuge, 19502 Iris Road, Little Falls, Minnesota 56345.

A limited number of hardcopies will be available for distribution at the Refuge Headquarters.

FOR FURTHER INFORMATION CONTACT: Anne Sittauer (763-389-3323).

SUPPLEMENTARY INFORMATION:

Introduction

With this notice, we complete the CCP process for Crane Meadows NWR, which we began by publishing a notice of intent on (73 FR 76677-76678, December 17, 2008). For more information about the initial process, see that notice. We released the draft CCP and EA to the public, announcing and requesting comments in a notice of availability on (75 FR 39037-39038, July 7, 2010).

Crane Meadows NWR, located in central Minnesota, was established in 1992 to protect one of the largest, most intact wetland complexes remaining in the State. The Refuge owns approximately 1,800 acres of 13,540 acres identified for acquisition, and an additional 900 acres are owned and managed by the Minnesota Department of Natural Resources. In addition to hosting relatively rare habitat types including oak savanna, sand prairie, and sedge meadow, it also provides key habitat for local and migratory wildlife, maintains essential ecological services, provides an element of water control and flood relief, protects important archaeological resources, and offers unique recreation, education, and research opportunities.

The Draft CCP and EA were officially released for public review on July 7, 2010; the 31-day comment period ended on August 6, 2010. Planning information was sent to approximately 265 individuals and organizations for review and announced through local media outlets, resulting in three comment submissions. During the comment period the Refuge also hosted an open house to receive public comments and feedback on the CCP and EA documents. Three individuals attended this event—all current or former state Department of Natural Resources employees. Because no changes to the preferred alternative were recommended by Refuge audiences during the public review period, only minor changes were made to the drafts in preparing the final CCP/EA documents.

Selected Alternative

Based on input and feedback during the planning process, alternative B was selected as the preferred alternative. This alternative portrays a long-term vision for habitat restoration to near-historic benchmark conditions and increases recreation opportunities for visitors over the 15-year planning horizon. A diversity of wetland and savanna habitats are favored reinforcing historic conditions, while prairie and woodland are reduced over the long-term. This alternative includes active participation in monitoring and improving upstream water resources, calls for adherence to a well-developed prescribed fire plan, increases land acquisition and work on private lands in high priority areas, augments the existing biological inventory and monitoring program, and offers visitor services in a greater number of locations. Specific, managed hunts are offered, and opportunities for quality fishing experiences will be evaluated as new lands are acquired.

Background

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation.

We will review and update the CCP at least every 15 years in accordance with the National Wildlife Refuge System Administration Act of 1966, as amended by the National Wildlife Refuge System Improvement Act of 1997, and the National Environmental Policy Act of 1969 (42 U.S.C. 4321-4370d).

Dated: August 17, 2010.
Charles M. Wooley,
Acting Regional Director, U.S. Fish and Wildlife Service, Ft. Snelling, Minnesota.

[FR Doc. 2010-25971 Filed 10-14-10; 8:45 am]

BILLING CODE 4310-55-P